DEPARTMENT OF THE INTERIOR

Fish and Wildlife Service

Charles M. Russell National Wildlife Refuge and UL Bend National Wildlife Refuge, Montana

AGENCY: Fish and Wildlife Service, Interior.

ACTION: Notice of intent to prepare a comprehensive conservation plan and environmental impact statement; request for comments.

SUMMARY: This notice advises that we, the U.S. Fish and Wildlife Service (Service), intend to gather information necessary to prepare a comprehensive conservation plan (plan) and environmental impact statement (EIS) for the Charles M. Russell National Wildlife Refuge, including UL Bend National Wildlife Refuge (UL Bend is a refuge within a refuge), located in north-central Montana. We are furnishing this notice in compliance with Service Refuge Planning policy to advise other agencies and the public of our intentions, and to obtain suggestions and information on the scope of issues to be considered in the planning process.

DATES: Written comments must be received by February 4, 2008.

ADDRESSES: Comments and requests for more information regarding the Charles M. Russell National Wildlife Refuge or UL Bend National Wildlife Refuge should be sent to Laurie Shannon, Planning Team Leader, Division of Refuge Planning, P.O. Box 25486, Denver Federal Center, Denver, Colorado 80225.

FOR FURTHER INFORMATION CONTACT: Laurie Shannon, 303-236-4317; or Laurie_Shannon@fws.gov; or John Esperance, Chief, Branch of Comprehensive Conservation Planning, 303-236-4369.

SUPPLEMENTARY INFORMATION: The Service has initiated the Plan and EIS for the Charles M. Russell National Wildlife Refuge (NWR) and UL Bend NWR with headquarters in Lewistown, Montana.

The Charles M. Russell NWR and UL Bend NWR extend west 125 miles along the Missouri River from Fort Peck Dam in north-central Montana. The Refuges contain approximately 1,100,000 acres including the Fort Peck Reservoir. Habitat includes native prairie, forested coulees, river bottoms, and badlands. Wildlife is as diverse as the topography, and common species include elk, mule deer, Rocky Mountain bighorn sheep, pronghorn antelope, sharp-tailed grouse, prairie dogs, and over 236 species of birds. The Refuges are located within Fergus, Garfield, Petroleum, Phillips, McCone, and Valley Counties.

In 1936, President Franklin D. Roosevelt signed Executive Order 7509 establishing the Fort Peck Game Range and providing “That the natural forage resources therein shall be first utilized for the purpose of sustaining in a healthy condition a maximum of four hundred thousand (400,000) sharp-tail grouse, and one thousand five hundred (1,500) antelope, the primary species, and such nonpredatory secondary species in such numbers as may be necessary to maintain a balanced wildlife population, but in no case shall the consumption of forage by the combined population of the wildlife species be allowed to increase the burden of the range dedicated to the primary species: Provided further, That all the resources within this range or preserve shall be available, except as herein otherwise provided with respect to wildlife, for domestic livestock * * * And provided further, That land within the exterior limits of the area herein described * * * may be utilized for public grazing purposes only to the extent as may be determined by the said Secretary (Agriculture) to be compatible with the utilization of said lands for the purposes for which they were acquired * * *.”

Originally, the game range was administered jointly by secretaries for the Departments of Agriculture (the Service was the Bureau of Biological Survey under Department of Agriculture until 1939) and Interior. On February 25, 1963, the Fort Peck Game Range was redesignated the Charles M. Russell National Wildlife Range by Public Land Order 2951. On March 25, 1969, Public Land Order 4588 established UL Bend National Wildlife Refuge on approximately 39,456 acres in Phillips County and revoked Executive Order 7509 on those lands. On October 19, 1976, Public Law 94-557 (90 Stat 2633-2634), designated approximately 28,890 acres in UL Bend as the UL Bend Wilderness. On February 27, 1976, the administrative status of Charles M. Russell and all other game ranges in the nation was changed by the signing of Public Law 94-223 (90 Stat. 199), commonly called the Game Range Act, which brought to a close the joint management between the Bureau of Land Management and the Service and vested management authority of Charles M. Russell NWR with the Service. Public Land Order 5635 (1978) changed the name of the game refuge to Charles M. Russell National Wildlife Refuge and clarified the administration and management of the Refuge under the National Wildlife Refuge System Administration Act of 1966 (16 U.S.C 668dd-668ee). Additional legislation and mandates exist between the Service and the U.S. Army Corps of Engineers for the operation of the Fort Peck Dam and Reservoir.

Each unit of the National Wildlife Refuge System, including the Charles M. Russell and UL Bend NWRs, has specific purposes for which it was established and for which legislation was enacted.

Those purposes are used to develop and prioritize management goals and objectives within the National Wildlife Refuge System mission, and to guide which public uses will occur on these Refuges. The planning process is a way for the Service and the public to evaluate management goals and objectives for the best possible conservation efforts of this important wildlife habitat while providing for wildlife-dependent recreation opportunities that are compatible with the Refuges' establishing purposes and the mission of the National Wildlife Refuge System.

The Service will conduct a comprehensive conservation planning process that will provide opportunity for tribal, State, and local governments; Federal and State agencies; organizations; and the public to participate in issue scoping and public comment. The Service is requesting input for issues, concerns, ideas, and suggestions for the future management of the Charles M. Russell and UL Bend NWRs. Anyone interested in providing input is invited to respond to the following three questions.

(1) What do you value most about the Charles M. Russell and UL Bend National Wildlife Refuges?

(2) What problems or issues do you want to see addressed in the CCP?

(3) What changes, if any, would you like to see in the management of the Charles M. Russell and UL Bend National Wildlife Refuges?

The Service has provided the above questions for your optional use. The planning team developed these questions to facilitate finding out more information about individual issues and ideas concerning these two units of the National Wildlife Refuge System. Comments received by the planning team will be used as part of the planning process; individual comments will not be referenced in our reports or responded to directly.

An opportunity will be given to the public to provide input at open houses to scope issues and concerns (schedules can be obtained from the planning team leader at the address listed above). Comments may be submitted anytime during the planning process by writing to that address. Before including your address, phone number, e-mail, or other personal identifying information in your comment, you should be aware that your entire comment, including your personal identifying information, may be made publicly available at any time. While you can ask us in your comment to withhold your personal identifying information from public review, we cannot guarantee that we will be able to do so.

The Environmental Review of this project will be conducted in accordance with the requirements of the National Environmental Policy Act (NEPA) of 1969, as amended (42 U.S.C. 4321 et seq.); NEPA Regulations (40 CFR parts 1500-1508); other appropriate Federal laws and regulations; and Service policies and procedures for compliance with those laws and regulations. All comments received from individuals on Service Environmental Assessments and Environmental Impact Statements become part of the official public record. Requests for such comments will be handled in accordance with the Freedom of Information Act, NEPA (40 CFR 1506.6(f)), and other Departmental and Service policies and procedures.

Dated: November 27, 2007.
Stephen Guertin,
Acting Regional Director.

[FR Doc. E7-23467 Filed 12-3-07; 8:45 am]

BILLING CODE 4310-55-P